DEPARTMENT OF COMMERCE

National Oceanic and Atmospheric Administration

[RTID 0648-XC995]

North Pacific Fishery Management Council; Public Meeting

AGENCY: National Marine Fisheries Service (NMFS), National Oceanic and Atmospheric Administration (NOAA), Commerce.

ACTION: Notice of web conference.

SUMMARY: The North Pacific Fishery Management Council's (Council) Pacific Northwest Crab Industry Advisory Committee (PNCIAC) will meet May 30, 2023.

DATES: The meeting will be held on Tuesday, May 30, 2023, from 9 a.m. to 11 a.m., Alaska Time.

ADDRESSES: The meeting will be a web conference. Join online through the link at https://meetings.npfmc.org/Meeting/Details/2996.

Council address: North Pacific Fishery Management Council, 1007 W 3rd Ave., Anchorage, AK 99501-2252; telephone: (907) 271-2809. Instructions for attending the meeting via video conference are given under SUPPLEMENTARY INFORMATION.

FOR FURTHER INFORMATION CONTACT: Sarah Marrinan, Council staff; phone: (907) 271-2809; email: sarah.marrinan@noaa.gov. For technical support, please contact our admin Council staff, email: npfmc.admin@noaa.gov.

SUPPLEMENTARY INFORMATION:

Agenda

Tuesday, May 30, 2023

The Committee will discuss several topics including: (a) Crab Plan Team recap, (b) Crab Specifications, (c) BBRKC area closures initial review, (d) C-shares active participation, (e) facility and IPQ use caps, (f) crab rationalization program review discussion, and (g) other business. The agenda is subject to change, and the latest version will be posted https://meetings.npfmc.org/Meeting/Details/2996 prior to the meeting, along with meeting materials.

Connection Information

You can attend the meeting online using a computer, tablet, or smart phone, or by phone only. Connection information will be posted online at: https://meetings.npfmc.org/Meeting/Details/2996.

Public Comment

Public comment letters will be accepted and should be submitted electronically to https://meetings.npfmc.org/Meeting/Details/2996.

Authority: 16 U.S.C. 1801 et seq.

Dated: May 8, 2023.
Rey Israel Marquez,
Acting Deputy Director, Office of Sustainable Fisheries, National Marine Fisheries Service.

[FR Doc. 2023-10081 Filed 5-10-23; 8:45 am]

BILLING CODE 3510-22-P